DEPARTMENT OF VETERANS AFFAIRS

Health Services Research and Development Service Merit Review Board; Notice of Meeting

The Department of Veterans Affairs (VA) gives notice under Public Law 92-463, Federal Advisory Committee Act, that a meeting of the Health Services Research and Development Scientific Merit Review Board will be held March 4-6, 2008, at the Phoenix Marriott Mesa, 200 N. Centennial Way, Mesa, Arizona. Various subcommittees of the Board will meet during the review period. Each subcommittee meeting of the Merit Review Board will be open to the public the first day for approximately one-half hour from 8 a.m. until 8:30 a.m. to cover administrative matters and to discuss the general status of the program. The remaining portion will be closed. The closed portion of each meeting will involve discussion, examination, reference to, and oral review of the research proposals and critiques.

The purpose of the Board is to review research and development applications concerned with the measurement and evaluation of health care services, the testing of new methods of health care delivery and management, and nursing research, Applications are reviewed for scientific and technical merit. Recommendations regarding funding are prepared for the Chief Research and Development Officer.

On Tuesday, March 4, two subcommittees will convene from 8 a.m. to 5 p.m.—Long Term Care & Aging and Nursing Research Initiative (NRI). On Wednesday, March 5, five subcommittees will convene from 8 a.m. to 5 p.m.—Chronic Disease Management, Equity/Women's Health, Health Services Research Methodology, Implementation and Management Research Science, and Mental Health & Post-Deployment Health. On Thursday, March 6, four subcommittees will convene from 8 a.m. to 5 p.m.—Chronic Disease Management, Health Services Research Methology, Implementation and Management Research Science, and Mental Health & Post-Deployment Health.

After the subcommittees meet there will be a debriefing provided to members to the Health Services Research & Development Scientific Merit Review Board. The purposes of the debriefing are to discuss the outcomes of the review sessions and to ensure the integrity and consistency of the review process.

During the closed portions of the meetings on March 4-6, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing portions of these meetings is in accordance with 5 U.S.C. 552b(c)(6) and (9)(B).

Those who plan to attend the open session should contact the Assistant Director of Operations (124B), Health Services Research and Development Service, Department of Veterans Affairs, 810 Vermont Avenue, NW., Washington, DC 20420, at least five days before the meeting. For further information, call (202) 254-0207.

By Direction of the Secretary.
Dated: January 3, 2008.
E. Philip Riggin,
Committee Management Officer.

[FR Doc. 08-52 Filed 1-10-08; 8:45 am]

BILLING CODE 8320-01-M